DEPARTMENT OF LABOR

Employment and Training Administration

[TA-W-54,291]

Gateway Manufacturing, Inc., Hillsdale, MI; Notice of Termination of Investigation

Pursuant to section 221 of the Trade Act of 1974, an investigation was initiated on February 18, 2004 in response to a petition filed by a company official on behalf of workers at Gateway Manufacturing, Inc., Hillsdale, Michigan.

The petitioner has requested that the petition be withdrawn. Consequently, the investigation has been terminated.

Signed in Washington, DC this 11th day of March 2004.
Elliott S. Kushner,
Certifying Officer, Division of Trade Adjustment Assistance.

[FR Doc. 04-7588 Filed 4-2-04; 8:45 am]

BILLING CODE 4510-30-P